DEPARTMENT OF COMMERCE

International Trade Administration

[C-570-955]

Certain Magnesia Carbon Bricks from the People's Republic of China: Countervailing Duty Order

AGENCY: Import Administration, International Trade Administration, Department of Commerce.

SUMMARY: Based on affirmative final determinations by the Department of Commerce (the Department) and the U.S. International Trade Commission (the ITC), the Department is issuing a countervailing duty order on certain magnesia carbon bricks (MCBs) from the People's Republic of China (PRC). On September 8, 2010, the ITC notified the Department of its affirmative determinations of material injury to a U.S. industry with respect to imports of MCBs from the PRC and Mexico. See Certain Magnesia Carbon Bricks from China and Mexico (Investigation Nos. 701-TA-468 and 731-TA-1166-1167 (Final), USITC Publication 4076, September 2010).

EFFECTIVE DATE: September 21, 2010.

FOR FURTHER INFORMATION CONTACT: Summer Avery or Toni Page, AD/CVD Operations, Office 6, Import Administration, International Trade Administration, U.S. Department of Commerce, Room 7866, 14th Street and Constitution Avenue, NW, Washington, DC 20230; telephone: (202) 482-4052 or (202) 482-1398, respectively.

SUPPLEMENTARY INFORMATION:

Background

On August 2, 2010, the Department published its affirmative final determination in the countervailing duty investigation of MCBs from the PRC. See Certain Magnesia Carbon Bricks from the People's Republic of China: Final Affirmative Countervailing Duty Determination, 75 FR 45472 (August 2, 2010) (Final Determination). On September 8, 2010, the ITC notified the Department of its final determination pursuant to section 705(b)(1)(A)(i) of the Tariff Act of 1930, as amended (the Act), that an industry in the United States is materially injured by reason of imports of merchandise from the PRC found to be subsidized by the Department's final determination. See section 705(a)(1) of the Act; see also Final Determination. In addition, the ITC notified the Department of its final determination that critical circumstances do not exist with respect to imports of subject merchandise from the PRC that are subject to the Department's affirmative critical circumstances finding. Pursuant to section 706(a) of the Act, the Department is publishing a countervailing duty order on the subject merchandise.

Scope of the Order

The scope of this order includes certain chemically-bonded (resin or pitch), magnesia carbon bricks with a magnesia component of at least 70 percent magnesia (“MgO”) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides). Certain magnesia carbon bricks that are the subject of this order are currently classifiable under subheadings 6902.10.1000, 6902.10.5000, 6815.91.0000, 6815.99.2000 and 6815.99.4000 of the Harmonized Tariff Schedule of the United States (“HTSUS”). While HTSUS subheadings are provided for convenience and customs purposes, the written description is dispositive.

Countervailing Duty Order

On September 8, 2010, the ITC notified the Department of its final determination, pursuant to section 705(b)(1)(A)(i) of the Act, that an industry in the United States is materially injured as a result of subsidized imports of MCBs from the PRC.¹

¹ Because the vote of the ITC with respect to imports of MCBs from the PRC was evenly divided between a determination of material injury and a determination of threat of material injury, the Department is treating this vote, for purposes of duty assessment, as an affirmative finding of material injury consistent with section 771(11) of the Act.

As a result of the Department's negative preliminary determination and subsequent affirmative final determination, liquidation was suspended effective the publication date of the Final Determination. See Final Determination, 75 FR at 45474.

In accordance with section 706 of the Act, CBP will continue suspension of liquidation for MCBs from the PRC, and will assess, upon further advice by the Department pursuant to section 706(a)(1) of the Act, countervailing duties for each entry of subject merchandise in an amount based on the net countervailable subsidy rates for the subject merchandise.

On or after the date of publication of the ITC's final injury determination in the Federal Register, CBP must require, at the same time as importers would normally deposit estimated duties on this merchandise, a cash deposit equal to the rates noted below:

Exporter/Manufacturer | Net Countervailable Subsidy Rate
RHI (RHI Refractories Liaoning Co., Ltd. and RHI Refractories (Dalian) Co., Ltd.) | 24.24 % ad valorem
Mayerton (Liaoning Mayerton Refractories and Dalian Mayerton Refractories Co. Ltd.) | 253.87 % ad valorem
All Others | 24.24 % ad valorem

With regard to the ITC's negative critical circumstances determination on imports of the subject merchandise from the PRC, as noted above, we did not instruct CBP to suspend entries and collect a cash deposit, bond or other security until publication of our Final Determination on August 2, 2010. Accordingly, with respect to countervailing duties, there are no entries prior to March 12, 2010, for which CBP should lift suspension and release any bond or other security pursuant to the ITC's negative critical circumstances determination.

This notice constitutes the countervailing duty order with respect to MCBs from the PRC pursuant to section 706(a) of the Act. Interested parties may contact the Department's Central Records Unit, Room 1117 of the main Commerce building, for copies of an updated list of countervailing duty orders currently in effect.

This notice is issued and published in accordance with sections 705(c)(2), 706(a) and 777(i)(1) of the Act, and 19 CFR 351.211.

Dated: September 15, 2010.
Ronald K. Lorentzen,
Deputy Assistant Secretary for Import Administration.

[FR Doc. 2010-23550 Filed 9-20-10; 8:45 am]

BILLING CODE 3510-DS-S